DEPARTMENT OF DEFENSE

Department of the Navy

Notice of Intent To Grant Exclusive Patent License; Applied Minerals, Inc.

AGENCY: Department of the Navy, DoD.

ACTION: Notice; correction.

SUMMARY: The Department of the Navy published a document in the Federal Register on February 2, 2010, announcing an intent to grant to Applied Minerals, Inc., a revocable, nonassignable, exclusive license. The original publication contained incorrect information.

FOR FURTHER INFORMATION CONTACT: Rita Manak, Head, Technology Transfer Office, NRL Code 1004, 4555 Overlook Avenue, SW., Washington, DC 20375-5320, telephone 202-767-3083. Due to U.S. Postal delays, please fax 202-404-7920, e-mail: rita.manak@nrl.navy.mil or use courier delivery to expedite response.

Correction

In the Federal Register of February 2, 2010, in FR Doc. 02fe10-38, make the following changes:

1. The correct Subject line, on page 5290, should read:

“Notice of Intent to Grant Co-Exclusive Patent License; Applied Minerals, Inc.; Correction”

2. In the first column, on page 5290, correct the SUMMARY caption to read:

SUMMARY: The Department of the Navy hereby gives notice of its intent to grant to Applied Minerals, Inc., a revocable, nonassignable, co-exclusive license to practice

the field of use of building materials which means the use of Halloysite Microtubles for the elution of any and all substances from them as a biocide in building materials including but not limited to, grouts, cements, parging materials, stuccos, and mortars; and wallboards, and cellulose-based materials such as particleboard, paneling, medium density fiberboard (MDF) paneling, plywood, lumber, chipboard, and ceiling tile; and caulks, sealants and adhesives; and high pressure laminates, wall, counter top and floor coverings or components thereof; and ceramics, cultured marbles, and tiles; and non-cellulose (i.e. polymer) based wallpapers, paneling, and other wall, counter top, and floor coverings or components; and insulations; and the field of use of paint which means the use of Halloysite Microtubules for the elution of any and all substances in paints, sealers, fillers, varnishes, shellac, polyurethane coatings, and any and all “paint-like” coatings applied in liquid form to any and all surfaces for the beautification or protection of surfaces in structures or components thereof, including but not limited to, buildings, marine structures (including boats), furniture and other normally “painted” materials in the United States, the Government-owned inventions described in U.S. Patent No. 5,492,696: Controlled Release Microstructures, Navy Case No. 76,896.//U.S. Patent No. 5,651,976: Controlled Release of Active Agents Using Inorganic Tubules, Navy Case No. 76,652.//U.S. Patent No. 5,705,191: Sustained Delivery of Active Compounds from Tubules with Rational Control, Navy Case No. 77,037.//U.S. Patent No. 6,280,759: Method of Controlled Release and Controlled Release Microstructures, Navy Case No. 78,215 and any continuations, divisionals or re-issues thereof.

DATES: Anyone wishing to object to the grant of this license must file written objections along with supporting evidence, if any, not later than March 9, 2010.

Dated: February 12, 2010.
A.M. Vallandingam,
Lieutenant Commander, Office of the Judge Advocate General, U.S. Navy, Federal Register Liaison Officer.

[FR Doc. 2010-3369 Filed 2-19-10; 8:45 am]

BILLING CODE 3810-FF-P